DEPARTMENT OF ENERGY

Federal Energy Regulatory Commission

Combined Notice of Filings #1

Take notice that the Commission received the following electric corporate filings:

Docket Numbers: EC18-76-000.

Applicants: Entergy Arkansas, Inc., Entergy Mississippi, Inc.

Description: Supplement to March 27, 2018 Joint Application of Entergy Arkansas, Inc., et al. for Approval under Section 203 of the Federal Power Act.

Filed Date: 7/27/18.

Accession Number: 20180727-5212.

Comments Due: 5 p.m. ET 8/10/18.

Take notice that the Commission received the following exempt wholesale generator filings:

Docket Numbers: EG18-116-000.

Applicants: Live Oak Wind Project, LLC.

Description: Notice of Self-Certification of Exempt Wholesale Generator Status of Live Oak Wind Project, LLC.

Filed Date: 7/31/18.

Accession Number: 20180731-5034.

Comments Due: 5 p.m. ET 8/21/18.

Take notice that the Commission received the following electric rate filings:

Docket Numbers: ER10-3279-002; ER10-3275-002; ER10-3274-002; ER18-213-001; ER10-3278-002.

Applicants: Basin Creek Equity Partners L.L.C., Capitol District Energy Center Cogeneration Associates, Pawtucket Power Associates Limited Partnership, Pittsfield Generating Company, L.P., Forked River Power LLC.

Description: Notice of Non-Material Change in Status of Basin Creek Equity Partners L.L.C., et. al.

Filed Date: 7/30/18.

Accession Number: 20180730-5275.

Comments Due: 5 p.m. ET 8/20/18.

Docket Numbers: ER15-794-008.

Applicants: Catalyst Paper Operations, Inc.

Description: Notification of Change in Status of Catalyst Paper Operations, Inc.

Filed Date: 7/30/18.

Accession Number: 20180730-5250.

Comments Due: 5 p.m. ET 8/20/18.

Docket Numbers: ER18-2049-001.

Applicants: Midcontinent Independent System Operator, Inc.

Description: Tariff Amendment: 2018-07-30_Amendment to Attachment X Revisions to Expedite Phase I of the DPP to be effective 9/19/2018.

Filed Date: 7/30/18.

Accession Number: 20180730-5233.

Comments Due: 5 p.m. ET 8/20/18.

Docket Numbers: ER18-2104-000.

Applicants: Arizona Public Service Company.

Description: § 205(d) Rate Filing: Rate Schedule No. 217, Exhibit A and Exhibit B Revisions to be effective 10/1/2018.

Filed Date: 7/30/18.

Accession Number: 20180730-5227.

Comments Due: 5 p.m. ET 8/20/18.

Docket Numbers: ER18-2105-000.

Applicants: Arizona Public Service Company.

Description: § 205(d) Rate Filing: Revisions to Service Agreement Nos. 218 and 335 to be effective 7/1/2018.

Filed Date: 7/30/18.

Accession Number: 20180730-5229.

Comments Due: 5 p.m. ET 8/20/18.

Docket Numbers: ER18-2106-000.

Applicants: Duke Energy Ohio, Inc.

Description: § 205(d) Rate Filing: Duke-DP&L IA 205 Filing (PJM SA No. TBD) to be effective 6/30/2018.

Filed Date: 7/30/18.

Accession Number: 20180730-5238.

Comments Due: 5 p.m. ET 8/20/18.

Docket Numbers: ER18-2107-000.

Applicants: Duke Energy Ohio, Inc.

Description: § 205(d) Rate Filing: Duke-AEP IA 205 Filing (PJM SA No. 1491) to be effective 6/30/2018.

Filed Date: 7/30/18.

Accession Number: 20180730-5239.

Comments Due: 5 p.m. ET 8/20/18.

Docket Numbers: ER18-2108-000.

Applicants: Duke Energy Ohio, Inc.

Description: § 205(d) Rate Filing: Duke-EKPC IA 205 Filing (PJM SA No. 3141) to be effective 6/30/2018.

Filed Date: 7/30/18.

Accession Number: 20180730-5240.

Comments Due: 5 p.m. ET 8/20/18.

Docket Numbers: ER18-2109-000.

Applicants: PJM Interconnection, L.L.C.

Description: § 205(d) Rate Filing: 2nd Quarter 2018 Revisions to OA, Sch. 12 and RAA, Sch. 17 Member Lists to be effective 6/30/2018.

Filed Date: 7/31/18.

Accession Number: 20180731-5059.

Comments Due: 5 p.m. ET 8/21/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 31, 2018.
Nathaniel J. Davis, Sr.,
Deputy Secretary.

[FR Doc. 2018-16746 Filed 8-3-18; 8:45 am]

BILLING CODE 6717-01-P